DEPARTMENT OF AGRICULTURE

Agricultural Marketing Service

7 CFR Part 52

[Document Number AMS-FV-14-0088, SC-18-328]

United States Standards for Grades of Processed Vegetables

AGENCY: Agricultural Marketing Service, USDA.

ACTION: Notice.

SUMMARY: The Agricultural Marketing Service (AMS) of the Department of Agriculture (USDA) proposes to revise the U.S. Standards for Grades of Canned Lima Beans, U.S. Standards for Grades of Canned Mushrooms, U.S. Standards for Grades of Pickles, and U.S. Standards for Grades of Green Olives. AMS is proposing to replace the term “midget” with “petite” in the canned lima bean, canned mushroom, and pickle standards, and to remove “midget” completely from the green olive standards as there is an alternative term. AMS is also proposing to replace the two-term grading system (dual nomenclature) with a single term to describe each quality level in the canned lima bean, canned mushroom, and green olive standards. Editorial changes would also be made to the grade standards that conform to recent changes made in other grade standards.

DATES: Comments must be submitted on or before October 12, 2018.

ADDRESSES: Interested persons are invited to submit written comments to the USDA, Specialty Crops Inspection Division, 100 Riverside Parkway, Suite 101, Fredericksburg, VA 22406; fax: (540) 361-1199; or at www.regulations.gov. Comments should reference the dates and page number of this issue of the Federal Register. Comments will be posted without change, including any personal information provided. All comments received within the comment period will become part of the public record maintained by the Agency and will be made available to the public via www.regulations.gov. Comments will be made available for public inspection at the above address during regular business hours or can be viewed at: www.regulations.gov.

FOR FURTHER INFORMATION CONTACT: Lindsay H. Mitchell at the address above, by phone (540) 361-1120; fax (540) 361-1199; or, email lindsay.mitchell@ams.usda.gov. Copies of the proposed U.S. Standards for Grades of Canned Lima Beans, U.S. Standards for Grades of Canned Mushrooms, U.S. Standards for Grades of Pickles, and U.S. Standards for Grades of Green Olives are available at http://www.regulations.gov. Copies of the current U.S. Standards for Grades of Canned Lima Beans, U.S. Standards for Grades of Canned Mushrooms, U.S. Standards for Grades of Pickles, and U.S. Standards for Grades of Green Olives are available on the Specialty Crops Inspection Division website at www.ams.usda.gov/grades-standards/vegetables.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

The Agricultural Marketing Service (AMS) is committed to carrying out this authority in a manner that facilitates the marketing of agricultural commodities and makes copies of official standards available upon request. The U.S. Standards for Grades of Fruits and Vegetables that no longer appear in the Code of Federal Regulations are maintained by AMS at: http://www.ams.usda.gov/grades-standards. AMS is proposing revisions to these U.S. Standards for Grades using the procedures that appear in part 36 of Title 7 of the Code of Federal Regulations (7 CFR part 36).

Background

AMS continually reviews all fruit and vegetable grade standards to ensure their usefulness to the industry, modernize language, and remove duplicative terminology. On May 13, 2013, AMS received a petition from the Little People of America stating they “are trying to raise awareness around and eliminate the use of the word midget.” The petition further stated, “Though the use of the word midget by the USDA when classifying certain food products is benign, Little People of America, and the dwarfism community, hopes that the USDA would consider phasing out the term midget.”

AMS determined that six grade standards contained the term “midget”—U.S. Standards for Grades of Canned Lima Beans, U.S. Standards for Grades of Canned Mushrooms, U.S. Standards for Grades of Pickles, U.S. Standards for Grades of Green Olives, U.S. Standards for Grades of Processed Raisins, and U.S. Standards for Grades of Shelled Pecans. The shelled pecans and processed raisins were separated out and are covered in two rules due to additional changes being made.

Before developing these proposed revisions, AMS solicited comments and suggestions about the grade standards from the Grocery Manufacturers Association, U.S. Dry Bean Council, American Mushroom Institute, Pickle Packers International, Inc., and the California Olive Committee. The consensus from the U.S. Dry Bean Council, American Mushroom Institute, and Pickle Packers International, Inc. was to proceed with replacing “midget” with “petite” in each of the three standards. The California Olive Committee stated there would be no issue with removing the term “midget” completely from the standards as that would leave “petite” for the size designation.

In addition to replacing “midget” with “petite” or removing “midget,” AMS is also proposing to remove dual nomenclature in U.S. Standards for Grades of Canned Lima Beans, U.S. Standards for Grades of Canned Mushrooms, and U.S. Standards for Grades of Green Olives. More recently developed standards use a single term, such as “U.S. Grade A” or “U.S. Grade B,” to describe each level of quality within a grade standard. Older grade standards used dual nomenclature, such as “U.S. Grade A or U.S. Fancy,” “U.S. Grade B or U.S. Extra Standard,” or “U.S. Grade B or U.S. Choice,” and “U.S. Grade C or U.S. Standard,” to describe the same level of quality. The terms “U.S. Fancy,” “U.S. Extra Standard” or “U.S. Choice,” and “U.S. Standard” would be removed and the terms “U.S. Grade A,” “U.S. Grade B,” and “U.S. Grade C” would be used exclusively.

Finally, AMS is proposing editorial changes to these grade standards, i.e., updating the name of a table to better reflect content, removing specific address for viewing or obtaining color standards, updating a grade designation in a scoresheet to align with language used throughout standard, and updating the Code of Federal Regulations (CFR) references where applicable. Information on obtaining color standards is available in the Fresh and Processed Equipment Catalog on the AMS website at https://www.ams.usda.gov/grades-standards/how-purchase-equipment-and-visual-aids. These revisions will provide a format that is consistent with those of other grade standards (75 FR 43141). The following table summarizes the changes currently under consideration by AMS.

U.S. standards for grades of | Effective date | Remove or replace “midget” | Other proposed revisions
Canned Lima Beans | 3/20/60 | Replace with “Petite” in Table II in Sizes of canned lima beans section | Change level of quality designations to single terms in the Grades of canned lima beans and Color sections. Correct CFR citation for standard of identity to 21 CFR 155.200 in the Identity section.
|  |  | Replace Processed Products information and address with “USDA Headquarters in Washington, DC” in the General section.
Canned Mushrooms | 4/7/62 | Replace with “petite” in the Sizes of canned mushrooms in the styles of whole and buttons section | Change level of quality designations to single terms in the Grades of canned mushrooms section. Correct CFR citation for standard of identity to 21 CFR 155.200 in the Product description section.
Green Olives | 9/8/67 | Remove from Table I in the Sizes of whole style green olives section | Change level of quality designations to single terms in the Grades of green olives and Uniformity of size sections and Tables IV and V in the Absence of defects section. Change “D” to “Sstd” in the Score sheet for green olives section.
Pickles | 4/22/91 | Replace with “Petite” in Table II in the Sizes of whole pickles section and Table VI in the Requirements for grade section | Change the title of Table III from “Recommended Pickle Ingredients All Styles Except Relish” to “Recommended Minimum Quantity of Pickle Ingredients All Styles Except Relish.”

The proposed revisions to these grade standards would provide a common language for trade and better reflect the current marketing of fruits and vegetables.

A 60-day comment period is provided for interested persons to submit comments on the proposed revised grade standards. Copies of the proposed revised standards are available at http://www.regulations.gov. After the 60-day comment period, AMS will move forward in accordance with 7 CFR 36.3(a)(1 through 3).

Authority: 7 U.S.C. 1621-1627.

Dated: August 8, 2018.
Bruce Summers,
Administrator, Agricultural Marketing Service.

[FR Doc. 2018-17283 Filed 8-10-18; 8:45 am]

BILLING CODE 3410-02-P